CONSUMER PRODUCT SAFETY COMMISSION

Sunshine Act Meeting

AGENCY: Consumer Product Safety Commission.

Time and Date: Friday, March 7, 2003, 10 a.m.

Location: Room 420, Bethesda Towers, 4330 East West Highway, Bethesda, Maryland.

Status: Open to the public.

Matter to be Considered:

Commission Decision on Product Registration Cards (Petition CP 01-1)

The Commission will consider Petition CP 01-1 submitted by the Consumer Federation of America (CFA) requesting that the Commission issue a rule requiring product registration cards with every product intended for children.

For a recorded message containing the latest agenda information, call (301) 504-7948.

Contact Person for Additional Information: Todd A. Stevenson, Office of the Secretary, 4330 East West Highway, Bethesda, MD 20207, (301) 504-7923.

Dated: February 24, 2003.
Todd A. Stevenson,
Secretary.

[FR Doc. 03-4658 Filed 2-24-03; 2:24 pm]

BILLING CODE 6355-01-M